DEPARTMENT OF LABOR

Employment and Training Administration

[TA-W-62,566]

WestPoint Home, Bath Products Division, Including Former On-Site Corporate Employees, Including On-Site Leased Workers from A-1 Employment, Inc., Valley, AL; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on January 18, 2008, applicable to workers of WestPoint Home, Bath Products Division, including on-site leased workers from A-1 Employment, Inc., Valley, Alabama. The notice was published in the Federal Register on February 1, 2008 (73 FR 6212).

At the request of the State agency, the Department reviewed the certification for workers of the subject firm. The workers were engaged in the production of bath towels.

New findings show that former corporate employees were employed on-site at the Valley, Alabama location of WestPoint Home, Bath Products Division. The corporate employees provided various activities supporting the production of bath towels that were produced at the Bath Products Division, Valley, Alabama location of the subject firm.

Based on these findings, the Department is amending the certification to include former corporate employees working on-site at the Bath Products Division of WestPoint Home, Valley, Alabama.

The intent of the Department's certification is to include all workers employed at WestPoint Home, Bath Products Division, Valley, Alabama who were adversely affected by a shift in production of bath towels to Pakistan.

The amended notice applicable to TA-W-62,566 is hereby issued as follows:

All workers of WestPoint Home, Bath Products Division, including on-site former corporate employees, including on-site leased workers from A-1 Employment, Inc., Valley, Alabama, who became totally or partially separated from employment on or after December 10, 2006, through January 18, 2010, are eligible to apply for adjustment assistance under Section 223 of the Trade Act of 1974, and are also eligible to apply for alternative trade adjustment assistance under Section 246 of the Trade Act of 1974.

Signed at Washington DC, this 16th day of July 2008.
Richard Church,
Certifying Officer, Division of Trade Adjustment Assistance.

[FR Doc. E8-17131 Filed 7-25-08; 8:45 am]

BILLING CODE 4510-FN-P